DEPARTMENT OF AGRICULTURE

Agricultural Marketing Service

[Doc. No. AMS-SC-22-0078]

Regulations Governing Inspection Certification of Fresh & Processed Fruits, Vegetables, & Other Products; Request for Extension of a Currently Approved Information Collection

AGENCY: Agricultural Marketing Service, USDA.

ACTION: Notice and request for comments.

SUMMARY: In accordance with the Paperwork Reduction Act of 1995, this notice announces the Agricultural Marketing Service's (AMS) intention to request approval from the Office of Management and Budget (OMB) for an extension of a currently approved information collection for Regulations Governing Inspection Certification of Fresh & Processed Fruits, Vegetables, & Other Products.

DATES: Comments on this notice must be received by February 7, 2023.

ADDRESSES: Interested persons are invited to submit written comments concerning this notice to Francisco Grazette, USDA Specialty Crops Inspection Division, 1400 Independence Avenue SW, Suite 1536, Washington, DC 20250-0240; or internet: https://www.regulations.gov. Comments should reference the date and page number of this issue of the Federal Register. All comments submitted in response to this notice will be included in the record and will be made available to the public. Please be advised that the identity of the individuals or entities submitting the comments will be made available to the public on the internet at the address provided above.

FOR FURTHER INFORMATION CONTACT: Francisco Grazette, USDA Specialty Crops Inspection Division, 1400 Independence Avenue SW, Suite 1536, Washington, DC 20250-0240; Telephone: (202) 720-1556; Fax (866) 230-9168; or Email: francisco.grazette@usda.gov.

SUPPLEMENTARY INFORMATION: The total number of responses and burden hours associated with the renewal are the same as those in the currently approved Information Collection.

Title: Regulations Governing Inspection Certification of Fresh & Processed Fruits, Vegetables, & Other Products.

OMB Number: 0581-0125.

Expiration Date of Approval: March 31, 2022.

Type of Request: Extension of a currently approved information collection.

Abstract: The Agricultural Marketing Act of 1946, (7 U.S.C. 1621-1627) as amended authorizes the Agricultural Marketing Service, Specialty Crops Program, Specialty Crops Inspection Division to provide inspection and certification of the quality and condition of agricultural products. The Specialty Crops Inspection Division provides a nationwide inspection, grading, and auditing service for fresh and processed fruits, vegetables, and other products for shippers, importers, processors, sellers, buyers, and other financially interested parties on a user-fee basis. Services are voluntary and made available only upon request or when specified by a special program or contract. Information is needed to carry out the inspection, grading, or auditing services, including: the name and location of the person or company requesting service; the type and location of product to be inspected/audited; the type of service requested; and, information that identifies the product or type and scope of audit requested. This is a request for renewal of the currently approved OMB 0581-0125 Regulations Governing Inspection Certification of Fresh & Processed Fruits, Vegetables, & Other Products.

Estimate of Burden: Public reporting burden for this collection is estimated to average 0.13 hours per response.

Respondents: Business or other for-profit or nonprofit organization, farm, or Federal, State, local or Tribal government.

Estimated Number of Respondents: 60,000.

Estimated Total Annual Responses: 194,176.

Estimated Number of Responses per Respondent: 3.24.

Estimated Total Annual Burden on Respondents: 25,282 hours.

Comments are invited on: (1) whether the proposed collection of information is necessary for the proper performance of the functions of the agency, including whether the information will have practical use; (2) the accuracy of the agency's estimate of the burden of the proposed collection of information, including the validity of the methodology and assumptions used; (3) ways to enhance the quality, utility, and clarity of the information to be collected; and (4) ways to minimize the burden of the collection of information on respondents, including the use of appropriate automated, electronic, mechanical, or other technological collection techniques or forms of information technology.

All responses to this notice will be summarized and included in the request for Office of Management and Budget approval. All comments will become a matter of public record, including any personal information provided.

Erin Morris,
Associate Administrator, Agricultural Marketing Service.

[FR Doc. 2022-26738 Filed 12-8-22; 8:45 am]

BILLING CODE 3410-02-P